DEPARTMENT OF ENERGY

Federal Energy Regulatory Commission

Combined Notice of Filings #1

Take notice that the Commission received the following electric corporate filings:

Docket Numbers: EC15-71-000.

Applicants: Enel Cove Fort, LLC, Enel Stillwater, LLC,EGP Stillwater Solar, LLC, Origin Wind Energy, LLC,EFS Green Power Holdings, LLC.

Description: Application for Authorization under section 203 of the Federal Power Act and Request for Expedited Action of Enel Cove Fort, LLC, et al.

Filed Date: 2/9/15.

Accession Number: 20150209-5278.

Comments Due: 5 p.m. ET 3/2/15.

Take notice that the Commission received the following electric rate filings:

Docket Numbers: ER14-822-000.

Applicants: PJM Interconnection, L.L.C.

Description: Report Filing: Informational Report per May, 9, 2014 Order in Docket No. ER14-822-000. to be effective N/A.

Filed Date: 2/9/15.

Accession Number: 20150209-5219.

Comments Due: 5 p.m. ET 3/2/15.

Docket Numbers: ER15-266-001.

Applicants: Public Service Company of Colorado.

Description: Tariff Amendment per 35.17(b): 2015-2-10_PSCo Sttlmnt Losses Amend Filing to be effective 1/1/2015.

Filed Date: 2/10/15.

Accession Number: 20150210-5145.

Comments Due: 5 p.m. ET 3/3/15.

Docket Numbers: ER15-359-002.

Applicants: Samchully Power & Utilities 1 LLC.

Description: Notice of Non-Material Change in Status of Samchully Power & Utilities 1 LLC.

Filed Date: 2/10/15.

Accession Number: 20150210-5179.

Comments Due: 5 p.m. ET 3/3/15.

Docket Numbers: ER15-746-001.

Applicants: RC Cape May Holdings, LLC.

Description: Tariff Amendment per 35.17(b): Supplement to Reactive Rate Schedule Change Request to be effective 12/31/9998.

Filed Date: 2/10/15.

Accession Number: 20150210-5169.

Comments Due: 5 p.m. ET 3/3/15.

Docket Numbers: ER15-786-000.

Applicants: Midcontinent Independent System Operator, Inc.

Description: Report Filing: 2015-02-10_SA 2523 Supplement ITC-Pheasant Run GIA (J075) to be effective N/A.

Filed Date: 2/10/15.

Accession Number: 20150210-5062.

Comments Due: 5 p.m. ET 3/3/15.

Docket Numbers: ER15-1015-000.

Applicants: AltaGas Brush Energy Inc.

Description: Section 205(d) rate filing per 35.13(a)(2)(iii): AltaGas Brush Energy Inc. Notice of Succession to be effective 2/10/2015.

Filed Date: 2/9/15.

Accession Number: 20150209-5147.

Comments Due: 5 p.m. ET 3/2/15.

Docket Numbers: ER15-1016-000.

Applicants: Shafter Solar, LLC.

Description: Baseline eTariff Filing per 35.1: Shafter Solar, LLC Application for Market-Based Rates to be effective 3/15/2015.

Filed Date: 2/9/15.

Accession Number: 20150209-5256.

Comments Due: 5 p.m. ET 3/2/15.

Docket Numbers: ER15-1017-000.

Applicants: Southern California Edison Company.

Description: Section 205(d) rate filing per 35.13(a)(2)(iii): Tie-Line Facilities Agreement with Valle Del Sol Energy, LLC to be effective 4/12/2015.

Filed Date: 2/10/15.

Accession Number: 20150210-5000.

Comments Due: 5 p.m. ET 3/3/15.

Docket Numbers: ER15-1018-000.

Applicants: Southern California Edison Company.

Description: Section 205(d) rate filing per 35.13(a)(2)(iii): LGIA and Distribution Service Agmt with Valle Del Sol Energy, LLC to be effective 4/12/2015.

Filed Date: 2/10/15.

Accession Number: 20150210-5001.

Comments Due: 5 p.m. ET 3/3/15.

Docket Numbers: ER15-1019-000.

Applicants: Fowler Ridge IV Wind Farm LLC.

Description: Initial rate filing per 35.12 Application for MBR to be effective 2/11/2015.

Filed Date: 2/10/15.

Accession Number: 20150210-5089.

Comments Due: 5 p.m. ET 3/3/15.

Docket Numbers: ER15-1020-000.

Applicants: Rising Tree Wind Farm III LLC.

Description: Initial rate filing per 35.12 MBR Application to be effective 4/11/2015.

Filed Date: 2/10/15.

Accession Number: 20150210-5114.

Comments Due: 5 p.m. ET 3/3/15.

Take notice that the Commission received the following land acquisition reports:

Docket Numbers: LA14-3-000.

Applicants: NextEra Energy Companies.

Description: Quarterly Land Acquisition Report of the NextEra Energy Companies.

Filed Date: 2/9/15.

Accession Number: 20150209-5277.

Comments Due: 5 p.m. ET 3/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 10, 2015.
Nathaniel J. Davis, Sr.,
Deputy Secretary.

[FR Doc. 2015-03198 Filed 2-17-15; 8:45 am]

BILLING CODE 6717-01-P